DEPARTMENT OF THE INTERIOR

Fish and Wildlife Service

Draft Safe Harbor Agreement With Assurances and Application for an Enhancement of Survival Permit for the Houston Toad in Bastrop County, TX

AGENCY: U.S. Fish and Wildlife Service, Interior.

ACTION: Notice of availability; receipt of application.

SUMMARY: Small Family Investments, Ltd. (Applicant) has applied to the U.S. Fish and Wildlife Service (Service) for an enhancement of survival permit pursuant to section 10(a)(1)(A) of the Endangered Species Act (Act) of 1973, as amended (16 U.S.C. 1531 et seq.). The requested permit, which is for a period of 12 years, includes a draft Safe Harbor Agreement (SHA) for the endangered Houston toad (Bufo houstonensis) in Bastrop County, Texas. We invite the public to review and comment on the permit application and the associated SHA.

DATES: To ensure consideration, written comments must be received on or before May 8, 2006.

ADDRESSES: Persons wishing to review the application may obtain a copy by writing to the Regional Director, P.O. Box 1306, Room 4102, Albuquerque, New Mexico, 87103. Persons wishing to review the draft SHA or other related documents may obtain a copy by written or telephone request to Paige Najvar, U.S. Fish and Wildlife Service, 10711 Burnet Road, Suite 200, Austin, Texas 78758 (512-490-0057; Fax 512-490-0974). The documents will also be available for public inspection, by appointment only, during normal business hours (8 a.m. to 4:30 p.m.) at the Service's Austin office. The Draft Agreement may also be obtained from the Internet at http://www.fws.gov/ifw2es/Documents/R2ES/Small_SHA_for_notice.pdf. Comments concerning the draft SHA or other related documents should be submitted in writing to the Field Supervisor at the U.S. Fish and Wildlife Service, 10711 Burnet Road, Suite 200, Austin, Texas 78758. Please refer to permit number TE-120475-0 when submitting comments. All comments received will become a part of the official administrative record and may be made available to the public.

FOR FURTHER INFORMATION CONTACT: Paige Najvar at the U.S. Fish and Wildlife Service, 10711 Burnet Road, Suite 200, Austin, Texas 78758 (512-490-0057; Fax 512-490-0974), or Paige_Najvar@fws.gov.

SUPPLEMENTARY INFORMATION: The Applicant has applied to the Service for a section 10(a)(1)(A) enhancement of survival permit for the endangered Houston toad in Bastrop County, Texas for a period of 12 years.

The Applicant intends to work collaboratively with Environmental Defense and the Service to implement conservation measures that are expected to provide a net conservation benefit to the Houston toad and will improve the quality of Houston toad habitat on the 836-acre property in Bastrop County, Texas. The Applicant has agreed to undertake conservation measures such as prescribed burning and brush thinning activities in order to control invasive woody understory species and decrease existing fuel load. These conservation measures are expected to facilitate the establishment of native, herbaceous vegetation while expanding and enhancing potential breeding, foraging, and hibernating habitats for the Houston toad currently occupying the property and the adjacent Bastrop State Park.

Incidental take of toads may occur on the property due to habitat management actions conducted in accordance with the conservation measures in the SHA, on-going ranch activities, and the possible cessation of management activities by the Applicant.

We provide this notice pursuant to section 10(c) of the Act, the National Environmental Policy Act (42 U.S.C 4371 et seq.), and its implementing regulations (40 CFR 1506.6).

Geoffrey L. Haskett,
Acting Regional Director, Region 2, Albuquerque, New Mexico.

[FR Doc. E6-4993 Filed 4-5-06; 8:45 am]

BILLING CODE 4310-55-P